DEPARTMENT OF TRANSPORTATION

Federal Railroad Administration

Notice of Funding Opportunity for Special Transportation Circumstances Projects

AGENCY: Federal Railroad Administration (FRA), Department of Transportation (DOT).

ACTION: Notice of funding opportunity (NOFO or notice).

SUMMARY: This notice details the application requirements and procedures for the states of Alaska, South Dakota, and Wyoming to obtain Special Transportation Circumstances (STC) directed grant funding for eligible rail Capital Projects. The funding has been made available for the program by the Consolidated Appropriations Act, 2017; Consolidated Appropriations Act, 2019; Further Consolidated Appropriations Act, 2020; Consolidated Appropriations Act, 2021; Consolidated Appropriations Act, 2022; Consolidated Appropriations Act, 2023; and the Infrastructure Investment and Jobs Act (2022 and 2023 supplemental Appropriations) (together, the Appropriations Acts). The opportunities described in this notice are available under Assistance Listing number 20.325, “Consolidated Rail Infrastructure and Safety Improvements.” Alaska, South Dakota, and Wyoming must each submit applications for projects meeting the requirements of this notice to receive directed funding. Should FRA identify additional available funding after the release of this NOFO, FRA may elect to award such additional funding to a project submitted for funding under this NOFO, as permitted by law.

DATES: Applications for funding under this solicitation are due no later than 5:00 p.m. ET, on Friday, September 29, 2023. Applications for funding, or supplemental material in support of applications, received after that date, will not be considered for funding. Incomplete applications for funding will not be considered for funding. See Section D of this notice for additional information on the application process.

ADDRESSES: Applications must be submitted via www.GrantSolutions.gov. Only applicants who comply with all submission requirements described in this notice and submit applications through www.GrantSolutions.gov will be eligible for award. For any supporting application materials that an applicant is unable to submit via www.GrantSolutions.gov (such as oversized engineering drawings), an applicant may submit an original and two (2) copies to Mr. Leonardo Maldonado, Office of Railroad Development, Federal Railroad Administration, 1200 New Jersey Avenue SE, Washington, DC 20590. However, due to delays caused by enhanced screening of mail delivered via the U.S. Postal Service, applicants are advised to use other means of conveyance (such as courier service) to assure timely receipt of materials before the application deadline.

FOR FURTHER INFORMATION CONTACT: For further information concerning this Notice, please contact the FRA NOFO Support program staff via email at FRA-NOFO-Support@dot.gov or Ryan Arbuckle at 202-617-0212.

SUPPLEMENTARY INFORMATION:

Notice to applicants: FRA recommends that applicants read this notice in its entirety prior to preparing application materials. The definitions of key terms used throughout the NOFO are listed under the Program Description in Section A(2). These key terms are capitalized throughout the NOFO. There are several administrative and eligibility requirements described herein with which applicants must comply. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

H. Other Information

A. Program Description

1. Purpose

The purpose of this notice is to solicit applications from the states of Alaska, Wyoming, and South Dakota for grants funded under the Appropriations Acts ¹ to assist in funding rail Capital Projects under the STC program authorized in 49 U.S.C. 22907(l).

¹ Consolidated Appropriations Act, 2017, Public Law 115-31, Div. K, Tit I, (2017 Appropriation); Consolidated Appropriations Act, 2019, Public Law 116-6, Div. G, Tit. I (2019 Appropriation); Further Consolidated Appropriations Act, 2020, Public Law 116-94, Div. H, Tit. I (2020 Appropriation); Consolidated Appropriations Act, 2021, Public Law Div. 116-260, Div. L, Tit. I (2021 Appropriation); Consolidated Appropriations Act, 2022, Public Law 117-103 Div. L, Tit. I, (2022 regular Appropriation); Consolidated Appropriations Act, 2023, Public Law 117-328 Div. L, Tit. I, (2023 regular Appropriation); and the Infrastructure Investment and Jobs Act, Public Law 117-58, Div. J, Tit. VIII (2022 and 2023 supplemental Appropriations) (together, the Appropriations Acts).

2. Key Terms

a. “Capital Project” means a project for: acquiring, constructing, improving, or inspecting rail equipment, track and track structures, or a rail facility; expenses incidental to the acquisition or construction including pre-construction activities (such as designing, engineering, location surveying, mapping, acquiring rights-of-way) and related relocation costs, environmental studies and all work necessary for FRA to approve the project under the National Environmental Policy Act (NEPA) and related environmental laws and regulations; highway-rail grade crossing improvements; ² communication and signalization improvements; and rehabilitating, remanufacturing or overhauling rail rolling stock and facilities.³

² For South Dakota and Wyoming projects, this includes highway construction over rail facilities as an alternative to construction or improvement of a highway-rail grade crossing.

³ For any project that includes purchasing intercity passenger rail equipment, applicants are encouraged to use a standardized approach to the procurement of passenger rail equipment, such as the specifications developed by the Next Generation Corridor Equipment Pool Committee or a similarly uniform process.

b. “Intercity Rail Passenger Transportation” means rail passenger transportation, except commuter rail passenger transportation. See 49 U.S.C. 22901(3). In this notice, “Intercity Passenger Rail Service” and “Intercity Passenger Rail Transportation” are equivalent terms to “Intercity Rail Passenger Transportation.”

c. “Public Benefits” is defined in 49 U.S.C. 22701(2) to mean a benefit accrued to the public, including Amtrak, in the form of enhanced mobility of people or goods, environmental protection or enhancement, congestion mitigation, enhanced trade and economic development, improved air quality or land use, more efficient energy use, enhanced public safety or security, and reduction of public expenditures due to improved transportation efficiency or infrastructure preservation.

d. “Railroad Route Miles” mean miles of railroad operated. A mile of single track is counted the same as a mile of double track. Sidings, turnouts, yard switching mileage, and mileage not operated are excluded. Year-to-year changes in miles operated are due to both changes in track mileage and changes in the number of railroads with rights for the same track.

e. “Rural Area” is defined in 49 U.S.C. 22907(g)(2) to mean any area not in an urbanized area, as defined by the Census Bureau. The Census Bureau defines Urbanized Area as an area with a population of 50,000 or more people.⁴ Updated lists of UAs as defined by the Census Bureau are available on the Census Bureau website at http://www2.census.gov/geo/maps/dc10map/UAUC_RefMap/ua/.

⁴ See 74 FR 53030, 53043 (August 24, 2011) available at https://www2.census.gov/geo/pdfs/reference/fedreg/fedregv76n164.pdf.

3. Overview

The STC authorization directs the Secretary of Transportation to allocate to certain states an appropriate portion of the amounts available to programs in Chapter 229 of Title 49 of the United States Code (Chapter 229) for grants. See 49 U.S.C. 22907(l). The Appropriations Acts provided funding under the Consolidated Rail Infrastructure and Safety Improvements (CRISI) program, Restoration and Enhancement (R&E) Grants program, Railroad Crossing Elimination (RCE) program, and Interstate Rail Compacts (IRC) Grant program in Chapter 229. As such, this notice is for the appropriate portion (as is further discussed below) of the amounts made available for those four grant programs. Separate notices of funding opportunities for competitive grants solicit applications for the non-STC CRISI, R&E, RCE, and IRC Grant funds made available by the Appropriations Acts.

STC funding is available to provide grants to either: (1) States in which there is no Intercity Passenger Rail service, for the purpose of funding freight rail Capital Projects on a state rail plan developed under Chapter 227 of Title 49 of the United States Code (Chapter 227) that provide Public Benefits; or (2) States in which the rail transportation system is not physically connected to rail systems in the continental United States or may not otherwise qualify for a grant under 49 U.S.C. 22907 due to the unique characteristics of the geography of that state or other relevant considerations,⁵ for the purpose of funding freight or passenger rail Capital Projects. There are currently four states that either do not have Intercity Passenger Rail service or are not physically connected to rail systems in the U.S.—Alaska, Hawaii, South Dakota, and Wyoming. However, as explained below, only three of these states (Alaska, South Dakota, and Wyoming) are allocated funds under 49 U.S.C. 22907(l).

⁵ FRA has determined that there are no states that would “not otherwise qualify for a grant under this section due to the unique characteristics of the geography of that State or other relevant considerations.” 49 U.S.C. 22907(l)(1)(B).

The amount of STC directed funding for the states is established by the definition of “appropriate portion” in 49 U.S.C. 22907(l)(2). That section defines appropriate portion to mean a share, for each state, not less than the share of the total Railroad Route Miles in the state out of the total Railroad Route Miles in the U.S., excluding from all totals the route miles exclusively used for tourist, scenic, and excursion railroad operations.

The calculations for each state's available funding amounts follow. In the U.S., there are 136,776 Railroad Route Miles.⁶ Alaska has 506 Railroad Route Miles or 0.37 percent of the nation's total, South Dakota has 1,822 Railroad Route Miles or 1.33 percent of the nation's total, Wyoming has 1,877 Railroad Route Miles or 1.37 percent of the nation's total, and Hawaii has zero Railroad Route Miles or zero percent of the nation's total.

⁶ Association of American Railroads: https://www.aar.org/wp-content/uploads/2021/02/AAR-State-Rankings-2019.pdf.

The amounts available for Alaska, South Dakota and Wyoming are as follows:

| 2017 Appropriation | 2018 Appropriation | 2019 Appropriation | 2020 Appropriation | 2021 Appropriation | 2022 Appropriation | 2023 Appropriation | Total
Alaska | $111,604 | $0 | $14,470 | $359,550 | $0 | $7,537,418 | $7,631,524 | $15,654,566
South Dakota | 0 | 0 | 0 | 0 | 4,361,213 | 27,093,962 | 27,432,234 | 58,887,409
Wyoming | 0 | 0 | 0 | 3,188,056 | 5,126,220 | 27,908,818 | 28,257,264 | 64,480,358
Total | 111,604 | 0 | 14,470 | 3,547,606 | 9,487,433 | 62,540,198 | 63,321,022 | 139,022,333

Projects funded through the STC will be implemented, as appropriate and consistent with law, in alignment with the Departmental priorities presented in Section E below.

B. Federal Award Information

1. Available Award Amount

This NOFO makes available $139,022,333 in directed funding for eligible Capital Projects, as follows: $15,654,566 for Alaska, $58,887,409 for South Dakota, and $64,480,358 for Wyoming.

2. Award Size

FRA encourages applicants to propose projects or components of projects that can be completed and implemented with the level of funding available. Projects may require more funding than is available. In these cases, applicants must identify and apply for specific project components that have operational independence and can be completed with the available funding. (See Section C(3)(b) for more information). The expected period of performance for the projects is within five years from the award date.

3. Award Type

FRA may make awards for projects selected under this notice through grant agreements and/or cooperative agreements. Grant agreements are used when FRA does not expect to have substantial Federal involvement in carrying out the funded activity. Cooperative agreements allow for substantial Federal involvement in carrying out the agreed upon investment, including technical assistance, review of interim work products, and increased program oversight under 2 CFR 200.1 The term “grant” is used throughout this document and is intended to reference funding awarded through a grant agreement, as well as funding awarded through a cooperative agreement. The funding provided under this NOFO will be made available to grantees on a reimbursable basis. Applicants must certify that their expenditures are allowable, allocable, reasonable, and necessary to the approved project before seeking reimbursement from FRA. Additionally, the grantee is expected to expend matching funds at the required percentage concurrent with Federal funds throughout the life of the project. See an example of standard terms and conditions for FRA grant awards at: https://railroads.dot.gov/elibrary/notice-grant-award-example. This template is subject to revision.

4. Concurrent Applications

DOT and its FRA may be concurrently soliciting applications for transportation infrastructure projects for several financial assistance programs, applicants may submit applications requesting funding for a particular project to one or more of these programs. In the application for STC funding under this NOFO, applicants must indicate the other programs to which they submitted or plan to submit an application for funding an entire project or certain project components, as well as highlight new or revised information in the application responsive to this NOFO that differs from the application(s) submitted for other Federal financial assistance programs.

C. Eligibility Information

This section of the notice explains the requirements for submitting an eligible grant application. Applications that do not meet the requirements in this section will be ineligible for funding. Instructions for submitting eligibility information to FRA are detailed in Section D of this NOFO.

1. Eligible Applicants

The states of Alaska, South Dakota, and Wyoming are the only applicants allocated portions of the available funding for the directed grants under 49 U.S.C. 22907(l). See Section C(3)(a) for project eligibility. The state or state Department of Transportation in these states must submit applications on behalf of their states.

2. Cost Sharing or Matching

The Federal share of total costs for an STC project(s) must not exceed 80 percent of the total cost of a project. The estimated total project costs must be based on the best available information, including engineering studies, studies of economic feasibility, environmental analyses, and information on the expected use of equipment and/or facilities. Additionally, in preparing estimates of total project costs, applicants should refer to FRA's cost estimate guidance, “Capital Cost Estimating: Guidance for Project Sponsors,” which is available at: https://www.fra.dot.gov/Page/P0926.

The minimum 20 percent non-Federal share may be comprised of eligible public sector (i.e., state or local) or private sector funding. FRA will not consider any Federal financial assistance, or any non-Federal funds already expended (or otherwise encumbered) toward the matching requirement, unless compliant with 2 CFR part 200. In-kind contributions, including the donation of services, materials, and equipment, may be credited as a project cost, in a uniform manner consistent with 2 CFR 200.306.

Before applying, FRA recommends that applicants carefully review the principles for cost sharing or matching in 2 CFR 200.306. FRA will approve pre-award costs consistent with 2 CFR 200.458, as applicable. See Section D(6). Cost sharing or matching may be used only for authorized Federal award purposes.

3. Other

a. Project Eligibility

Projects eligible for funding improve the safety, efficiency, and/or reliability of rail transportation systems. For South Dakota and Wyoming, the projects eligible for the directed funding under this NOFO must be freight rail Capital Projects in those states that are on a state rail plan developed under Chapter 227 that provide Public Benefits.

For Alaska, a project eligible for directed funding under this NOFO must be a freight or passenger rail-related Capital Project in that state. Applicants are not limited in the number of projects for which they seek funding.

b. Project Component Operational Independence

If an applicant requests funding for a project that is a component or set of components of a larger project, the project component(s) must be attainable with the award amount together with other funds as necessary, obtain operational independence, and must comply with all eligibility requirements described in Section C.

In addition, the component(s) must be capable of independent analysis and decision making, as determined by FRA, under NEPA (i.e., have independent utility, connect logical termini, if applicable, and not restrict the consideration of alternatives for other reasonably foreseeable rail projects.).

D. Application and Submission Information

Required documents for the application are outlined in the following paragraphs. Applicants must complete and submit all components of the application. See Section D(2) for the application checklist.

FRA welcomes the submission of additional relevant supporting documentation, such as planning, engineering and design documentation, and letters of support from partnering organizations that will not count against the Project Narrative 25-page limit. Consistent with the R.O.U.T.E.S. Initiative, the DOT encourages applicants to consider how the project will address the challenges faced by rural areas, generally.

1. Address To Request Application Package

Applicants must submit all application materials, in their entirety, through www.GrantSolutions.gov no later than 5:00 p.m. ET, on Friday, September 29, 2023. FRA is committed to ensuring that information is available in appropriate alternative formats to meet the requirements of persons who have a disability. If you require an alternative version of files provided, please contact the FRA NOFO Support program staff via email at FRA-NOFO-Support@dot.gov.

For any supporting application materials that an applicant cannot submit via GrantSolutions.gov, such as oversized engineering drawings, an applicant may submit an original and two (2) copies to Mr. Leonardo Maldonado, Office of Railroad Development, Federal Railroad Administration, 1200 New Jersey Avenue SE, Washington, DC 20590. Due to delays caused by enhanced screening of mail delivered via the U.S. Postal Service, FRA advises applicants to use other means of conveyance (such as courier service) to assure timely receipt of materials before the application deadline. Additionally, if documents can be obtained online, providing instructions to FRA on how to access files on a referenced website may also be sufficient.

2. Content and Form of Application Submission

FRA strongly advises applicants to read this section carefully. Applicants must submit all required information and components of the application package to be considered for funding. Additionally, applicants must comply with the requirements in 49 U.S.C. 22905 explained in part at https://www.fra.dot.gov/page/P0185.

Required documents for an application package are outlined in the checklist below.

• Project Narrative (see Section D.2.a).

• Statement of Work (see Section D.2.b.i).

• SF424—Application for Federal Assistance.

• Either: SF 424A—Budget Information for Non-Construction or SF 424C—Budget Information for Construction.

• Either: SF 424B—Assurances for Non-Construction or SF 424D—Assurances for Construction.

• FRA's Additional Assurances and Certifications.

• SF LLL—Disclosure of Lobbying Activities.

Additional details about the application content requirements are described in the following sections.

a. Project Narrative

This section describes the minimum content required in the Project Narrative of the grant application. The Project Narrative must follow the basic outline below to address the program requirements and assist evaluators in locating relevant information.

I. Cover Page | See D.2.a.i.
II. Project Funding | See D.2.a.ii.
III. Project Eligibility | See D.2.a.iii.
IV. Project Description | See D.2.a.iv.
V. Project Location | See D.2.a.v.
VI. Evaluation and Selection Criteria | See D.2.a.vi.
VII. Project Implementation and Management | See D.2.a.vii.
VIII. Environmental Readiness | See D.2.a.viii.

The Project Narrative may not exceed 25 pages in length (excluding cover pages, table of contents, and supporting documentation). If possible, applicants should submit supporting documents via website links rather than hard copies. If supporting documents are submitted, applicants must clearly identify the relevant portion of the supporting document with the page numbers of the cited information in the Project Narrative. The Project Narrative must adhere to the following outline.

i. Cover Page: Include a cover page that lists the following elements in either a table or formatted list:

Project Title
Applicant name
Total project cost
Amount of Federal funding requested under this NOFO
Proposed non-Federal match
City(ies), State(s) where the project is located
Congressional district(s) where the project is located

ii. Project Funding: Indicate in table format the amount of Federal funding, the proposed non-Federal match, identifying contributions from the private sector if applicable, and total project cost. Describe the non-Federal funding arrangement, including multiple sources of non-Federal funding if applicable. Include funding commitment letters outlining funding agreements as attachments or in an appendix. If all or a majority of a project is located in a Rural Area, identify the Rural Area(s) and estimated percentage of total project costs that will be spent in the Rural Area(s). Identify any previously incurred costs, as well as other sources of Federal funds committed to the project and any pending Federal requests. If Federal funding is proposed as match, demonstrate the applicant's determination of eligibility for such use and the legal basis for that determination. Also, note if the requested Federal funding under STC or other programs must be obligated or spent by a certain date due to dependencies or relationships with other Federal or non-Federal funding sources, related projects, law, or other factors. If applicable, provide the type and estimated value of any proposed contributions, and substantiate how the contributions meet the requirements in 2 CFR 200.306.

Example Project Funding Table:

Task # | Task name/project component | Cost | Percentage of total cost
1
2
Total Project Cost
Federal Funds Received from Previous Grant
STC Federal Funding Request
Non-Federal Funding/Match | Cash: In-Kind:
Portion of Total Project Costs Spent in a Rural Area
Pending Federal Funding Requests

iii. Project Eligibility: Identify which project eligibility category the project is eligible under in Section C(3) of this notice, and explain how the project meets the project eligibility criteria.

iv. Project Description: Include a detailed project description. This detailed description should provide, at a minimum, background on the challenges the project aims to address; the expected users and beneficiaries of the project, including all railroad operators; the specific components and elements of the project; and any other information the applicant deems necessary to justify the proposed project.

An applicant should specify whether it is seeking funding for a project that has already received Federal financial assistance, and if applicable, explain how the new scope proposed to be funded under this NOFO relates to the previous scope. For all projects, applicants must provide information about proposed performance measures, as discussed in Section F(3)(c) and required in 2 CFR 200.301 and 49 U.S.C 22907(f).

For any project that includes grade crossing components, cite specific National Grade Crossing Inventory information, including the railroad that owns the infrastructure (or the crossing owner, if different from the railroad), the primary railroad operator, the DOT crossing inventory number, and the roadway at the crossing. Applicants can search for data to meet this requirement at the following link: http://safetydata.fra.dot.gov/OfficeofSafety/default.aspx.

For South Dakota and Wyoming, include a description of the Public Benefits that will result from the proposed project and a website link to the state rail plan and page number where the project is discussed in the document. If a project is not contained in the state rail plan, applicants may amend the relevant state rail plan(s) to contain the project. Amending a state rail plan requires a letter to FRA from an authorized representative of the relevant state rail transportation authority adding the proposed project to the plan and stating that the letter serves as an addendum to the current plan. Such a letter should include the project name, a brief description, and estimated project cost and Federal and non-Federal share by funding source. FRA encourages state rail transportation authorities to make any such addendum letters publicly available with their state rail plans. FRA recommends such letters be submitted as part of an applicant's application. Whether submitted as part of application package or separately to FRA, FRA must receive the letter by the application due date of this notice.

Consistent with the Department's R.O.U.T.E.S. Initiative (https://www.transportation.gov/rural), the Department encourages applicants to describe how activities proposed in their application would address the unique challenges facing rural transportation networks, regardless of the geographic location of those activities.

v. Project Location: Include geospatial data for the project, as well as a map of the project's location. On the map, include the Congressional districts and Rural Area boundaries, if applicable, in which the project will take place.

vi. Evaluation and Selection Criteria: Include a thorough discussion of how the proposed project meets all of the evaluation and selection criteria, as outlined in Section E of this notice.

vii. Project Implementation and Management: Describe proposed project implementation and project management arrangements. Include descriptions of the expected arrangements for project contracting, contract oversight, change-order management, risk management, and conformance to Federal requirements for project progress reporting (see https://www.fra.dot.gov/Page/P0274). Describe past experience in managing and overseeing similar projects.

viii. Environmental Readiness: If the NEPA process is complete, indicate the date of completion, and provide a website link or other reference to the final Categorical Exclusion, Finding of No Significant Impact, Record of Decision, and any other NEPA documents prepared. If the NEPA process has not begun or is underway but not complete, the application should detail the type of NEPA review contemplated, where the project is in the process, and indicate the anticipated date of completion of all milestones and of the final NEPA determination. If the last agency action with respect to NEPA documents occurred more than three years before the application date, the applicant should describe why the project has been delayed and include a proposed approach for verifying and, if necessary, updating this material in accordance with applicable NEPA requirements. Additional information regarding FRA's environmental processes and requirements are located at https://www.fra.dot.gov/environment.

b. Additional Application Elements

Applicants must submit:

i. A Statement of Work (SOW) addressing the scope, schedule, and budget for the proposed project. The SOW must contain sufficient detail so FRA and the applicant can understand the expected outcomes of the proposed work to be performed and can monitor progress toward completing project tasks and deliverables during a prospective grant's period of performance. Applicants must use FRA's standard SOW, schedule, and budget templates to be considered for an award. The templates are located at https://www.fra.dot.gov/Page/P0325. When preparing the budget, the total cost of a project must be based on the best available information as indicated in cited references.

ii. Environmental compliance documentation, as applicable, if a website link is not cited in the Project Narrative.

iii. SF 424—Application for Federal Assistance.

iv. SF 424A—Budget Information for Non-Construction or SF 424C Budget Information for Construction.

v. SF 424B—Assurances for Non-Construction or SF 424D—Assurances for Construction.

vi. FRA F30—Certification Regarding Debarment, Suspension and Other Responsibility Matters, Drug-Free Workplace Requirements and Lobbying, located at https://railroads.dot.gov/elibrary/fra-f-30-certificationsregarding-debarment-suspension-andother-responsibility-matters.

vii. FRA F 251—Applicant Financial Capability Questionnaire, located at https://railroads.dot.gov/elibrary/fra-f-251-applicant-financial-capability-questionnaire.

viii. An SF LLL—Disclosure of Lobbying Activities.

ix. A statement that the lead applicant has a system for procuring property and services under a Federal award under this NOFO that supports the provisions in 2 CFR 200 subpart D-Procurement Standards at 2 CFR 200.317-326 and 2 CFR 1201.317.

Forms needed for the electronic application process are at www.GrantSolutions.gov.

c. Post-Selection Requirements

See Section F(2) of this notice for post-selection requirements.

3. Unique Entity Identifier, System for Award Management (SAM), and Submission Instructions

To apply for funding through GrantSolutions.gov, applicants must be properly registered in SAM before submitting an application, provide a valid unique entity identifier in its application, and continue to maintain an active SAM registration, all as described in detail below. If you are a first-time user of GrantSolutions, a user account will be created and emailed to you at the time of the posting of your announcement. You will be able to log in using this account and submit your completed application.

If you are an existing grantee, please log in to GrantSolutions using your existing user account. If you do not remember your account information or have not been assigned a grantee account, please contact the GrantSolutions Help Desk at 1-800-618-0223 or by email at help@grantsolutions.gov to obtain your username and password.

FRA may not make a grant award to an applicant until the applicant has complied with all applicable Unique Entity Identifier (UEI) and SAM requirements. If an applicant has not fully complied with the requirements by the time the FRA makes a grant award, FRA may determine that the applicant is not qualified to receive a Federal award and use that determination as a basis for making a Federal award to another applicant. (Please note that if a UEI number must be obtained or renewed, this may take a significant amount of time to complete.)

To submit applications through GrantSolutions, applicants must:

a. Register with the SAM at www.SAM.gov.

All applicants for Federal financial assistance must maintain current registrations in the SAM database. An applicant must be registered in SAM to successfully register in GrantSolutions. The SAM database is the repository for standard information about Federal financial assistance applicants, recipients, and sub-recipients. Organizations that have previously submitted applications via GrantSolutions are already registered with SAM, as it is a requirement for GrantSolutions registration. Please note, however, that applicants must update or renew their SAM registration at least once per year to maintain an active status. Delayed registration is not an acceptable reason for late submission. Therefore, it is critical to check registration status well in advance of the application deadline. If an applicant is selected for an award, the applicant must maintain an active SAM registration with current information throughout the period of the award. Information about SAM registration procedures is available at www.sam.gov.

b. Obtain a Unique Entity Identifier.

On April 4, 2022, the federal government discontinued using DUNS numbers.

The DUNS Number was replaced by a new, non-proprietary identifier that is provided by the System for Award Management (SAM.gov). This new identifier is called the UEI, or the Entity ID. To find or request a Unique Entity Identifier, please visit www.sam.gov.

c. Search for the Funding Opportunities on www.GrantSolutions.gov.

The Assistance Listing number for this opportunity is 20.325, “Consolidated Rail Infrastructure and Safety Improvements.” Applicants must submit their application package under this funding opportunity announcement.

d. Submit an Application Addressing All Requirements Outlined in this NOFO.

After applying through GrantSolutions, a confirmation screen will appear on the applicant's computer screen. This screen will confirm that the applicant has applied and provide an application number.

If an applicant experiences difficulties at any point during this process, please call the GrantSolutions Help Desk at 1.866.577.0771 or 202.401.5282, Monday-Friday from 9:00 a.m. to 6:00 p.m., ET.

Note: Please use generally accepted formats such as .pdf, .doc, .docx, .xls, .xlsx and .ppt, when uploading attachments. While applicants may embed picture files, such as .jpg, .gif, and .bmp, in document files, applicants should not submit attachments in these formats. Additionally, the following formats will not be accepted: .com, .bat, .exe, .vbs, .cfg, .dat, .db, .dbf, .dll, .ini, .log, .ora, .sys, and .zip.

4. Submission Dates and Times

Applicants must submit complete applications to www.GrantSolutions.gov no later than 5:00 p.m. ET, on Friday, September 29, 2023. FRA reviews www.GrantSolutions.gov information on dates/times of applications submitted to determine timeliness of submissions. Late applications will be neither reviewed nor considered.

The following conditions are not valid reasons to permit late submissions: (1) failure to complete the GrantSolutions registration process before the deadline; (2) failure to follow GrantSolutions instructions on how to register and apply as posted on its website; (3) failure to follow all the instructions in this NOFO; and (4) technical issues experienced with the applicant's computer or information technology environment.

5. Intergovernmental Review

Executive Order 12372 requires applicants from state and local units of government or other organizations providing services within a state to submit a copy of the application to the State Single Point of Contact (SPOC), if one exists, and if this program has been selected for review by the state. Applicants must contact their SPOC to determine if the program has been selected for state review.

6. Funding Restrictions

FRA is prohibited in 49 U.S.C. 22905(f) from providing STC grants for Commuter Rail Passenger Transportation (as defined in 49 U.S.C 24102(3)).⁷ FRA's interpretation of this restriction is informed by the language in 49 U.S.C. 22907. FRA's primary intent in funding passenger rail projects will be to make reasonable investments in intercity passenger rail transportation. Such projects may be located on shared corridors where Commuter Rail Passenger Transportation also benefits from the project.

⁷ Under 49 U.S.C. 22907(i) and (k), STC grants are subject to certain of the requirements in chapter 229 including 49 U.S.C. 22905.

Consistent with 2 CFR 200.458 as applicable, FRA will only approve pre-award costs if such costs are incurred pursuant to the negotiation and in anticipation of the grant agreement and if such costs are necessary for efficient and timely performance of the scope of work. Under 2 CFR 200.458, grantees must seek written approval from FRA for pre-award activities to be eligible for reimbursement under the grant. Activities initiated prior to the execution of a grant or without FRA's written approval may not be eligible for reimbursement or included as a grantee's matching contribution. Cost sharing or matching may be used only for authorized Federal award purposes.

7. Other Submission Requirements

If an applicant experiences difficulty at any point during this process, please call the GrantSolutions Help Desk at 1.866.577.0771 or 202.401.5282, Monday-Friday from 9:00 a.m. to 6:00 p.m., ET. For information and instructions on each of these processes, FRA will email GrantSolutions Funding Opportunity Instructions to each applicant when the notice is announced. See section D.1 for where supporting application materials must be submitted if sent by postal mail, electronic means or hand delivery.

E. Application Review Information

1. Criteria

a. Eligibility, Completeness and Applicant Risk Review

FRA will first screen applications for eligibility (eligibility requirements are outlined in Section C of this notice), completeness (application documentation and submission requirements are outlined in Section D of this notice), applicant risk and the matching requirement for a 20 percent minimum match.

b. Evaluation Criteria

FRA subject-matter experts will evaluate all eligible and complete applications using the evaluation criteria outlined in this section to determine technical merit and project benefits.

i. The application is thorough and responsive to all requirements outlined in this notice.

ii. The proposed schedule and tasks are appropriate to achieve the expected outcomes and anticipated benefits of the proposed project.

iii. The proposed costs, budget, and level of effort are realistic and sufficient to accomplish the tasks documented in the SOW.

c. Selection Criteria

In addition to the eligibility and completeness review and the evaluation criteria outlined in this subsection, the FRA will prioritize projects that use data-driven and evidence-based methods to apply the following DOT Strategic Goals:

i. Safety. The Department is committed to advancing safe, efficient transportation, including in the STC Program. FRA will assess the project's ability to foster a safe transportation system for the movement of goods and people, consistent with the Department's strategic goal to reduce transportation-related fatalities and serious injuries across the transportation system. Such considerations will include, but are not limited to, the extent to which the project improves safety at highway-rail grade crossings, reduces incidences of rail-related trespassing, upgrades infrastructure to achieve a higher level of safety, and uses an appropriately trained workforce.

ii. Climate and Sustainability. FRA seeks to fund projects under the STC Program that reduce greenhouse gas emissions in the transportation sector, incorporate evidence-based climate resilience measures and features, reduce the lifecycle greenhouse gas emissions from the project materials, and avoid adverse environmental impacts to air or water quality, wetlands, and endangered species, and address the disproportionate negative environmental impacts of transportation on disadvantaged communities, consistent with Executive Order 14008, Tackling the Climate Crisis at Home and Abroad (86 FR 7619).⁸

⁸ See U.S. Department of Transportation Strategic Framework FY 2022-2026 (Dec. 2021) at https://www.transportation.gov/administrations/office-policy/fy2022-2026-strategic-framework

iii. Equity. FRA seeks to award projects under the STC Program that will create proportional impacts to all populations in a project area, remove transportation related disparities to all populations in a project area, and increase equitable access to project benefits, consistent with Executive Order 13985, Advancing Racial Equity and Support for Underserved Communities Through the Federal Government (86 FR 7009). FRA will assess the project's ability to address equity and barriers to opportunity, to the extent possible within the program and consistent with law. Such considerations will include, but are not limited to, the applicant's plan for using small businesses to complete its project, the extent to which the project improves or expands transportation options, the extent to which the project improve or expands access to jobs and services and mitigates the safety risks and detrimental quality of life effects that rail lines can have on communities. This will also include community engagement efforts already taken or planned, the extent to which engagement efforts are designed to reach impacted communities, whether engagement is accessible for persons with disabilities or limited English proficient persons within the impacted communities, and how community feedback is taken into account in decision-making.

iv. Economic Strength and Global Competitiveness. FRA intends to use the STC program to support the creation of good-paying jobs with the free and fair choice to join a union and the incorporation of strong labor standards and training and placement programs, especially registered apprenticeships, in project planning stages, consistent with Executive Order 14025, Worker Organizing and Empowerment (86 FR 22829), and Executive Order 14052, Implementation of the Infrastructure Investment and Jobs Act (86 FR 64335). Such considerations will include, but are not limited to, the extent to which the project results in high-quality job creation by supporting good-paying jobs with a free and fair choice to join a union, and in on-going operations and maintenance, and incorporates strong labor standards, such as through the use of project labor agreements or union neutrality agreements; includes comprehensive planning and policies to promote hiring of underrepresented populations including local and economic hiring preferences and investments in high-quality workforce development programs with supportive services, including labor-management programs, to help train, place, and retain people in good-paying jobs or registered apprenticeship, and invests in vital infrastructure assets. FRA also intends to use the STC program to support wealth creation, consistent with the Department's Equity Action Plan through the inclusion of Local inclusive economic development and entrepreneurship such as the utilization of Disadvantaged Business Enterprises, Minority-owned Businesses, Women-owned Businesses, or 8(a) firms.

v. Transformation. FRA will assess the project's ability to expand and improve the nation's rail network, which needs to balance new infrastructure for increased capacity with proper maintenance of aging assets. Such considerations will include, but are not limited to, the extent to which the project adds capacity to congested corridors, builds new connections or attracts new users to passenger rail, and ensures assets will be improved to a state of good repair.

Consistent with the Department's R.O.U.T.E.S. Initiative (https://www.transportation.gov/rural), the Department recognizes that rural transportation networks face unique challenges. To the extent that those challenges are reflected in the merit criteria listed in this section, the Department will consider how the activities proposed in the application will address those challenges, regardless of the geographic location of those activities.

2. Review and Selection Process

FRA will conduct a three-part application review process, as follows:

a. Screen applications for completeness, eligibility, and applicant risk;

b. Evaluate eligible applications (completed by subject matter experts applying the evaluation criteria); and

c. Select projects for funding (completed by the FRA Administrator).

3. Reporting Matters Related to Integrity and Performance

Before making a Federal award with a total amount of Federal share greater than the simplified acquisition threshold (see 2 CFR 200.1 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.206

F. Federal Award Administration Information

1. Federal Award Notice

Applications selected for funding will be announced after the application review period. FRA will contact applicants with successful applications after announcement with information and instructions about the award process. This notification is not an authorization to begin proposed project activities. FRA requires satisfaction of applicable requirements by the applicant and a formal grant agreement signed by both the grantee and the FRA, including an approved scope, schedule, and budget, before obligating the grant.

2. Administrative and National Policy Requirements

In connection with any program or activity conducted with or benefiting from funds awarded under this notice, grantees must comply with all applicable requirements of Federal law, including, without limitation, the Constitution of the United States; the conditions of performance, nondiscrimination requirements, and other assurances made applicable to the award of funds in accordance with regulations of the Department of Transportation; and applicable Federal financial assistance and contracting principles promulgated by the Office of Management and Budget. In complying with these requirements, grantees, in particular, must ensure that no concession agreements are denied, or other contracting decisions made on the basis of speech or other activities protected by the First Amendment. If the Department determines that a grantee has failed to comply with applicable Federal requirements, the Department may terminate the award of funds and disallow previously incurred costs, requiring the grantee to reimburse any expended award funds.

Examples of administrative and national policy requirements include: 2 CFR part 200; procurement standards at 2 CFR part 200 subpart D—Procurement Standards, 2 CFR 1207.317 and 2 CFR 200.401; compliance with Federal civil rights laws and regulations; requirements for disadvantaged business enterprises, debarment and suspension requirements, and drug-free workplace requirements; FRA's and OMB's Assurances and Certifications; Americans with Disabilities Act; safety requirements; NEPA; environmental justice requirements; performance measures under 49 U.S.C. 22907(f); grant conditions under 49 U.S.C. 22905, and the provision deeming operators rail carriers for certain purposes and grantee agreements with railroad right-of-way owners for projects using railroad right-of way. Unless otherwise stated in statutory or legislative authority, or appropriations language, all financial assistance awards follow the Uniform Administrative Requirements, Cost Principles and Audit Requirements for Federal Awards at 2 CFR part 200 and 2 CFR part 1201.

Assistance under this NOFO is subject to the grant conditions in 49 U.S.C. 22905, including protective arrangements that are equivalent to the protective arrangements established under section 504 of the Railroad Revitalization and Regulatory Reform Act of 1976 (45 U.S.C. 836) with respect to employees affected by actions taken in connection with the project to be financed in whole or in part by grants subject to 49 U.S.C. 22905, the provision deeming operators rail carriers and employers for certain purposes, and grantee agreements with railroad right-of-way owners for projects using railroad rights-of-way.⁹

⁹ FRA has posted Final guidance to grantees on implementing protective arrangements at https://railroads.dot.gov/elibrary/equivalent-labor-protections to assist grantees implementing the protective arrangements; and answers to frequently asked questions intended to assist grantees subject to the requirements of 49 U.S.C. 22905(c)(1) at https://railroads.dot.gov/elibrary/frequently-asked-questions-about-rail-improvement-grant-conditions-under-49-usc-ss-22905c1.

Assistance under this NOFO is subject to the Buy America requirements in 49 U.S.C. 22905(a) and the Build America, Buy America Act, Public Law 117-58, sections 70901-52.

In addition, as expressed in Executive Order 14005, Ensuring the Future Is Made in All of America by All of America's Workers (86 FR 7475), it is the policy of the executive branch to maximize, consistent with law, the use of goods, products, and materials produced in, and services offered in, the United States. FRA expects all applicants to comply with that requirement without needing a waiver. However, to obtain a waiver, a recipient must be prepared to demonstrate how they will maximize the use of domestic goods, products, and materials in constructing their project.

Grantees must comply with applicable appropriations act requirements and all relevant requirements of 2 CFR part 200. Rights to intangible property under grants awarded under this NOFO are governed in accordance with 2 CFR 200.315.

See an example of standard terms and conditions for FRA grant awards at https://www.fra.dot.gov/eLib/Details/L19057. This template is subject to revision.

The STC NOFO will be implemented, as appropriate and consistent with law, in alignment with the priorities in Executive Order 14052, Implementation of the Infrastructure Investment and Jobs Act (86 FR 64355), which are to invest efficiently and equitably, promote the competitiveness of the U.S. economy, improve job opportunities by focusing on high labor standards, strengthen infrastructure resilience to all hazards including climate change, and to effectively coordinate with State, local, Tribal, and territorial government partners.

a. Climate Change, Sustainability, and Environmental Justice (EJ). Projects that have not sufficiently considered climate change and sustainability in their planning, as determined by FRA, will be required to do so before receiving funds for construction, consistent with Executive Order 14008, Tackling the Climate Crisis at Home and Abroad (86 FR 7619). In the grant agreement, recipients will be expected to describe activities they have taken, or will take, prior to obligation of construction funds that addresses climate change and EJ. Activities that address climate change include, but are not limited to, demonstrating: the project will result in significant greenhouse gas emissions reductions; the project supports emissions reductions goals in a Local/Regional/State plan; and the project primarily focuses on funding for state of good repair and clean transportation options, including public transportation, walking, biking, and micro-mobility. Activities that address EJ include but are not limited to: basing project design on the results of a proven EJ screening tool (developed by another Federal agency such as the EPA, a State agency, etc.); conducting enhanced, targeted outreach to EJ communities; considering EJ in alternatives analysis and final project design; and supporting a modal shift in freight or passenger movement to reduce emissions or reduce induced travel demand.

b. Racial Equity and Barriers to Opportunity. Projects must consider and address equity and barriers to opportunity in their planning, as determined by FRA, and as a condition of receiving construction funds, consistent with Executive Order 13985, Advancing Racial Equity and Support for Underserved Communities Through the Federal Government (86 FR 7009). The grant agreement should include the grantee's description of activities they have taken, or will take, prior to obligation of construction funds that addresses equity and barriers to opportunity. These activities may include, but are not limited to: completing an equity impact analysis for the project; adopting an equity and inclusion program/plan; conducting meaningful public engagement to ensure underserved communities are provided an opportunity to be involved in the planning process; including investments that either redress past barriers to opportunity or that proactively create new connections and opportunities for underserved communities; hiring from local communities; improving access to or providing economic growth opportunities for underserved, overburdened, or rural communities; or addressing historic or current inequitable air pollution or other environmental burdens and impacts.

c. Employment Opportunities. In addition to prioritizing projects that address climate change, proactively address racial equity, and reduce barriers to opportunity, FRA intends to use the STC NOFO to support the creation of good-paying jobs with the free and fair choice to join a union and the incorporation of strong labor standards and training and placement programs, especially registered apprenticeships, and local hire agreements, in project planning and development. To the extent that applicants have not sufficiently considered job quality and labor rights in their planning, as determined by the Department of Labor, the applicants will be required to do so before receiving funds for construction, consistent with Executive Order 14025, Worker Organizing and Empowerment (86 FR 22829), and Executive Order 14052, Implementation of the Infrastructure Investment and Jobs Act (86 FR 64335). Specifically, the project planning activities and project delivery actions must support: (a) strong labor standards and the free and fair choice to join a union,¹⁰ including project labor agreements, local hire agreements,¹¹ distribution of workplace rights notices, and use of an appropriately trained workforce; (b) support of high-quality workforce development programs, including registered apprenticeship, labor-management training programs, and supportive services to help train, place, and retain people in good-paying jobs and apprenticeships; and (c) comprehensive planning and policies to promote hiring and inclusion for all groups of workers, including through the use of local and economic hiring preferences, linkage agreements with workforce programs that serve these underrepresented groups, and proactive plans to prevent harassment.

¹⁰ Federal funds may not be used to support or oppose union organizing, whether directly or as an offset for other funds.

¹¹ IIJA div. B section 25019 provides authority to use geographical and economic hiring preferences, including local hire, for construction jobs, subject to any applicable State and local laws, policies, and procedures.

The Office of Federal Contract Compliance Programs (OFCCP) is charged with protecting America's workers by enforcing equal employment opportunity and affirmative action obligations of employers that do business with the federal government. OFCCP enforces Executive Order 11246, Section 503 of the Rehabilitation Act of 1973, and the Vietnam Era Veterans' Readjustment Assistance Act of 1974. Together these legal authorities make it unlawful for Federal contractors and subcontractors to discriminate in employment because of race, color, religion, sex, sexual orientation, gender identity, national origin, disability, or status as a protected veteran. Consistent with E.O. 11246, Equal Employment Opportunity (30 FR 12319, and as amended), all Federally assisted contractors are required to make good faith efforts to meet the goals of 6.9 percent of construction project hours being performed by women, in addition to goals that vary based on geography for construction work hours and for work being performed by people of color. Recipients of Federal transportation funding will be required to comply fully with Title VI of the Civil Rights Act of 1964 and implementing regulations (49 CFR 21), the ADA, Section 504 of the Rehabilitation Act of 1973, and all other civil rights requirements. The Department's and FRA's Office of Civil Rights may provide resources and technical assistance to recipients to ensure full and sustainable compliance with Federal civil rights requirements. The OFCCP has a Mega Construction Project Program through which it engages with project sponsors as early as the design phase to help promote compliance with non-discrimination and affirmative action obligations. Through the program, OFCCP offers contractors and subcontractors extensive compliance assistance, conducts compliance evaluations, and helps to build partnerships between the project sponsor, prime contractor, subcontractors, and relevant stakeholders. OFCCP will identify projects that receive an award under this notice and are required to participate in OFCCP's Mega Construction Project Program from a wide range of federally assisted projects over which OFCCP has jurisdiction and that have a project cost above $35 million. DOT will require project sponsors with costs above $35 million that receive awards under this funding opportunity to partner with OFCCP, if selected by OFCCP, as a condition of their DOT award. Under that partnership, OFCCP will ask these project sponsors to make clear to prime contractors in the pre-bid phase that project sponsor's award terms will require their participation in the Mega Construction Project Program. Additional information on how OFCCP makes their selections for participation in the Mega Construction Project Program is outlined under “Scheduling” on the Department of Labor website: https://www.dol.gov/agencies/ofccp/faqs/construction-compliance.

d. Critical Infrastructure Security and Resilience. It is the policy of the United States to strengthen the security and resilience of its critical infrastructure against both physical and cyber threats. Each applicant selected for Federal funding under this Notice must demonstrate, prior to signing of the grant agreement, efforts to consider and address physical and cyber security risks relevant to the transportation mode and type and scale of the project. Projects that have not appropriately considered and addressed physical and cyber security and resilience in their planning, design, and project oversight, as determined by the DOT and the Department of Homeland Security, will be required to do so before receiving funds for construction, consistent with Presidential Policy Directive 21—Critical Infrastructure Security and Resilience and the National Security Presidential Memorandum on Improving Cybersecurity for Critical Infrastructure Control Systems. Information on cybersecurity performance goals can be found at https://www.cisa.gov/cpg.

e. Domestic Preference Requirements. Assistance under this NOFO is subject to the Buy America requirements in 49 U.S.C. 22905(a) and the Build America, Buy America Act, Public Law 117-58, 70901-52. In addition, as expressed in Executive Order 14005, Ensuring the Future Is Made in All of America by All of America's Workers (86 FR 7475), it is the policy of the executive branch to maximize, consistent with law, the use of goods, products, and materials produced in, and services offered in, the United States. FRA expects all applicants to comply with that requirement without needing a waiver. However, to obtain a waiver, a recipient must be prepared to demonstrate how they will maximize the use of domestic goods, products, and materials in constructing their project. If an applicant anticipates it may need a waiver, the applicant should indicate the need in its application and submit materials necessary for such requests together with its application.

f. Civil Rights and Title VI. Applications should demonstrate that the recipient has a plan for compliance with civil rights obligations and nondiscrimination laws, including Title VI of the Civil Rights Act of 1964 and implementing regulations (49 CFR 21), the ADA, and section 504 of the Rehabilitation Act, and accompanying regulations. This may include, as applicable, providing a Title VI plan, community participation plan, and other information about the communities that will be benefited and impacted by the project. The DOT's and FRA's Office of Civil Rights may provide resources and technical assistance to recipients to ensure full and sustainable compliance with Federal civil rights requirements.

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically.

b. Additional Reporting

Applicants selected for funding are required to comply with all reporting requirements in the standard terms and conditions for FRA grant awards including 2 CFR 180.335 and 2 CFR 180.350.

If the Federal share of any Federal award under this NOFO may include more than $500,000 over the period of performance, applicants are informed of the post award reporting requirements reflected in 2 CFR part 200, appendix XII2 CFR part 200, Appendix XII—Award Term and Condition for Recipient Integrity and Performance Matters.

c. Performance Reporting

Each applicant selected for funding must collect information and report on the project's performance using measures mutually agreed upon by FRA and the grantee to assess progress in achieving strategic goals and objectives. Examples of rail performance measures are listed in the below table. The applicable measure(s) will depend upon the type of project. Applicants requesting funding for the acquisition of rolling stock must integrate at least one equipment/rolling stock performance measure, consistent with the grantee's application materials and program goals.

Rail measures | Unit measured | Temporal | Primary strategic goal | Secondary strategic goal | Description
Slow order miles | Miles | Annual | State of Good Repair | Safety | The number of miles per year within the project area that have temporary speed restrictions (“slow orders”) imposed due to track condition. This is an indicator of the overall condition of track. This measure can be used for projects to rehabilitate sections of a rail line since the rehabilitation should eliminate, or at least reduce the slow orders upon project completion.
Gross Ton | Gross Tons | Annual | Economic Competitiveness | State of Good Repair | The annual gross tonnage of freight shipped in the project area. Gross tons include freight cargo minus tare weight of the rail cars. This measures the volume of freight a railroad ships in a year. This measure can be useful for projects that are anticipated to increase freight shipments.
Rail Track Grade Separation | Count | Annual | Economic Competitiveness | Safety | The number of annual automobile crossings that are eliminated at an at-grade crossing as a result of a new grade separation.
Passenger Counts | Count | Annual | Economic Competitiveness | State of Good Repair | Count of the annual passenger boardings and alightings at stations within the project area.
Travel Time | Time/Trip | Annual | Economic Competitiveness | Quality of Life | Point-to-point travel times between pre-determined station stops within the project area. This measure demonstrates how track improvements and other upgrades improve operations on a rail line. It also helps make sure the railroad is maintaining the line after project completion.
Track weight capacity | Yes/No | One Time | State of Good Repair | Economic Competitiveness | If a project is upgrading a line to accommodate heavier rail cars (typically an increase from 263,000 lb. rail cars to 286,000 lb. rail cars).
Track Miles | Miles | One Time | State of Good Repair | Economic Competitiveness | The number of track miles that exist within the project area. This measure can be beneficial for projects building sidings or sections of additional main line track on a railroad.

G. Federal Awarding Agency Contacts

For further information concerning this Notice, please contact the FRA NOFO Support program staff via email at FRA-NOFO-Support@dot.gov.

H. Other Information

All information submitted as part of or in support of any application shall use publicly available data or data that can be made public and methodologies that are accepted by industry practice and standards, to the extent possible. If the application includes information the applicant considers to be a trade secret or confidential commercial or financial information, the applicant must do the following: (1) Note on the front cover that the submission “Contains Confidential Business Information (CBI)”; (2) mark each affected page “CBI”; and (3) highlight or otherwise denote the CBI portions.

The DOT regulations implementing the Freedom of Information Act (FOIA) are found at 49 CFR part 7 subpart C—Availability of Reasonably Described Records under the Freedom of Information Act which sets forth rules for FRA to make requested materials, information and, records publicly available under FOIA. Unless prohibited by law, application contents may be released in response to FOIA or Congressional requests.

In addition, following the completion of the selection process and announcement of awards, FRA may publish a list of all applications received along with the names of the applicant organizations and funding amounts requested. Except for information withheld under the previous paragraph, FRA may also make application narratives publicly available or share application information within DOT or with other Federal agencies if FRA determines that sharing is relevant to the respective program's objectives.

Issued in Washington, DC.
Jennifer Mitchell,
Deputy Administrator.

[FR Doc. 2023-17834 Filed 8-17-23; 8:45 am]

BILLING CODE 4910-06-P